DEPARTMENT OF LABOR

Employment and Training Administration

[TA-W-51,007]

Cedar Creek Fibers, LLC, Formerly Wellman, Inc., Fayetteville, NC; Notice of Termination of Investigation

Pursuant to section 221 of the Trade Act of 1974, as amended, an investigation was initiated on February 27, 2003, in response to a worker petition filed on behalf of workers at Cedar Creek Fibers, LLC, formerly Wellman, Inc., Fayetteville, North Carolina.

The petitioning group of workers is covered by an active certification issued on September 19, 2002 (TA-W-41,409). Consequently, the investigation has been terminated.

Signed at Washington, DC this 25th day of March 2003.
Richard Church,
Certifying Officer, Division of Trade Adjustment Assistance.

[FR Doc. 03-8345 Filed 4-4-03; 8:45 am]

BILLING CODE 4510-30-P